DEPARTMENT OF COMMERCE

International Trade Administration

Meeting of the President's Export Council

AGENCY: International Trade Administration, U.S. Department of Commerce.

ACTION: Notice of an open meeting by teleconference.

SUMMARY: The President's Export Council (Council) will hold an open call to present observations from a recent trip to Cuba by the Council's Chair and Vice Chair and to deliberate a recommendation related to Cuba. The final agenda will be posted at least one week in advance of the meeting on the Council's Web site at http://trade.gov/pec.

DATES: June 8, 2016 at 10:00 a.m. EDT. The deadline for members of the public to register, including requests for auxiliary aids, or to submit written comments for dissemination prior to the meeting, is 5:00 p.m. EDT on June 6, 2016.

ADDRESSES: Via teleconference. The call-in number and passcode will be provided by email to registrants. Requests to register (including for auxiliary aids) and any written comments should be submitted to Tricia Van Orden, Executive Secretary, President's Export Council, electronically via email to tricia.vanorden@trade.gov or via letter to Room 4043, 1401 Constitution Avenue NW., Washington, DC 20230. Members of the public are encouraged to submit registration requests and written comments via email to ensure timely receipt.

FOR FURTHER INFORMATION CONTACT: Tricia Van Orden, Executive Secretary, President's Export Council, Room 4043, 1401 Constitution Avenue NW., Washington, DC 20230, telephone: 202-482-5876, email: tricia.vanorden@trade.gov.

SUPPLEMENTARY INFORMATION: Background: The President's Export Council was first established by Executive Order on December 20, 1973 to advise the President on matters relating to U.S. export trade and to report to the President on its activities and recommendations for expanding U.S. exports and was reconstituted pursuant to Executive Order 12131 of May 4, 1979. The President's Export Council was renewed most recently by Executive Order 13708 of September 30, 2015, for the two-year period ending September 30, 2017. This Committee is established in accordance with the provisions of the Federal Advisory Committee Act (FACA), as amended, 5 U.S.C. App.

Public Participation: The meeting will be open to the public and will be accessible to people with disabilities. All listeners are required to register in advance by sending an electronic request by email to tricia.vanorden@trade.gov or by sending a paper request to the address listed above. Requests must be received by 5:00 p.m. EDT on June 6, 2016. Requests for auxiliary aids must be submitted by the registration deadline. Last minute requests will be accepted, but may be impossible to fill.

Public Submissions: The public is invited to submit written statements to the President's Export Council. Statements must be received by 5:00 p.m. EDT on June 6, 2016, by either of the following methods:

a. Electronic Submissions

Submit statements electronically to Tricia Van Orden, Executive Secretary, President's Export Council, via email: tricia.vanorden@trade.gov.

b. Paper Submissions

Send paper statements to Tricia Van Orden, Executive Secretary, President's Export Council, Room 4043, 1401 Constitution Avenue NW., Washington, DC 20230.

Statements will be provided to the members in advance of the meeting for consideration and will be posted on the President's Export Council Web site (http://trade.gov/pec) without change, including any business or personal information provided such as names, addresses, email addresses, or telephone numbers. All statements received, including attachments and other supporting materials, are part of the public record and subject to public disclosure. You should submit only information that you wish to make publicly available.

Meeting Recording: A recording of the Council's call will be available within ninety (90) days of the meeting on the Council's Web site at http://trade.gov/pec.

Dated: May 11, 2016.
Tricia Van Orden,
Executive Secretary, President's Export Council.

[FR Doc. 2016-11485 Filed 5-12-16; 8:45 am]

BILLING CODE 3510-DR-P